DEPARTMENT OF THE INTERIOR

Bureau of Reclamation

Equus Beds Aquifer Storage Recharge and Recovery Project, Equus Beds Division, Wichita Project, Kansas

AGENCY: Bureau of Reclamation, Interior.

ACTION: Notice of Availability of Final Environmental Impact Statement (Final EIS).

SUMMARY: Pursuant to the National Environmental Policy Act of 1969 (NEPA), the Bureau of Reclamation (Reclamation) has completed the Final EIS for the Equus Beds Aquifer Storage Recharge and Recovery Project. The City of Wichita, Kansas designed the water project to restore and conserve the Equus Beds aquifer while developing water supplies for its future needs. Federal funding assistance for this project has been authorized by the U.S. Congress under the Wichita Project Equus Beds Division Authorization Act of 2005 (Pub. L. 109-299). The Federal action under NEPA involves Reclamation, acting through the Secretary of the Interior, reimbursing the City of Wichita for construction costs through a cost-share agreement. The Final EIS addresses the environmental consequences of two Federal cost-share alternatives previously evaluated in the Draft EIS published on July 10, 2009 (74 FR 33274).

The U.S. Environmental Protection Agency, U.S. Fish and Wildlife Service, and Kansas Water Office were cooperating agencies providing assistance in the preparation of the Environmental Impact Statement (EIS) under the guidance of NEPA.

DATES: Reclamation expects to conclude the NEPA process with a Record of Decision (ROD) after 30 days from the time the Final EIS is officially filed and made available to the public. The ROD will identify the alternative selected for implementation, provide discussion of factors and rationale used in making the decision, and address the environmentally preferred alternative.

ADDRESSES: Charles Webster, Bureau of Reclamation, 5924 NW 2nd Street, Suite 200, Oklahoma City, OK 73127-6514. The Final EIS is available online from Reclamation's Web site at http://www.usbr.gov/gp/nepa/quarterly.cfm. Paper copies or compacts discs (CDs) of the Final EIS may be obtained by calling Charles Webster at 405-470-4831. Refer to the SUPPLEMENTARY INFORMATION section for locations of libraries and offices where the published Final EIS is available for review.

FOR FURTHER INFORMATION CONTACT: Charles Webster at 405-470-4831 or cwebster@usbr.gov. Mail requests should be addressed to the Bureau of Reclamation at the address indicated in the ADDRESSES section.

SUPPLEMENTARY INFORMATION: Background: The Wichita Project Equus Beds Division Authorization Act of 2005 authorizes the Secretary of the Interior to help the City of Wichita, Kansas, complete the Aquifer Recharge (Storage), and Recovery component (ASR is the acronym for this specific component or project) of Wichita's Integrated Local Water Supply Plan (ILWSP). The broader ILWSP was developed in 1993 to provide municipal and industrial water to Wichita and surrounding region through the year 2050. The ASR component would collect water from the Little Arkansas River basin and pipe it into the local Equus Beds aquifer for recharge and storage. An inter-connecting system of wells, pipes, and ponds would be constructed to move the water. Some facilities of the ASR project are already in place to treat collected water before recharging the aquifer. Water would later be recovered from wells in the aquifer and used for regional needs. The ASR component would become the “Equus Beds Division” of Reclamation's Wichita Project after completion. Operation, maintenance, replacement, and liability of the new division would be the responsibility of the City of Wichita.

Public Law 109-299 requires Reclamation to use, to the extent possible, the City's plans, designs, and analyses. The Federal funding cap is 25% of total costs, or $30 million (indexed to January 2003), whichever is less. The full scale ASR component is estimated to cost about $500 million and is designed to recharge the Equus Beds aquifer with up to 100 million gallons of water per day (MGD).

Alternatives: The Final EIS addresses the effects of one action alternative and a no action alternative. The alternatives for Federal action evaluated in the Final EIS include:

(1) Proposed Action—Reclamation would reimburse the City of Wichita for eligible facility and infrastructure costs to implement the 100 MGD ASR Plan with 60/40 Option.

(2) No Action Alternative—Under “No Action,” there would be no reimbursement to the City of Wichita for ASR project costs.

The Final EIS describes how the alternatives were focused on two cost-share options. The decision to be made essentially involves administration of Federal funds for reimbursement of project costs. The cost-share agreement would be used to regulate Federal funds and reimbursement.

Locations where the Final EIS may be reviewed:

• Halstead Public Library, 264 Main, Halstead, KS 67056

• Hutchinson Public Library, 901 North Main, Hutchinson, KS 67501

• Newton Public Library, 720 North Oak, Newton, KS 67114

• Valley Center Public Library, 321 West First Street, Valley Center, KS 67147

• Wichita Public Library, 223 South Main, Wichita, KS 67202

• City of Wichita Water and Sewer Department, 455 North Main Street, 8th Floor, Wichita, KS 67202

• Bureau of Reclamation, 5924 NW 2nd Street, Suite 200, Oklahoma City, OK 73127

Dated: November 24, 2009.
Michael J. Ryan,
Regional Director, Great Plains Region.

[FR Doc. E9-28649 Filed 11-30-09; 8:45 am]

BILLING CODE 4310-MN-P